SMALL BUSINESS ADMINISTRATION

[Disaster Declaration #21336 and #21337; ALASKA Disaster Number AK-20016]

Presidential Declaration Amendment of a Major Disaster for the State of Alaska

AGENCY: U.S. Small Business Administration.

ACTION: Amendment 2.

SUMMARY: This is an amendment of the Presidential declaration of a major disaster for the State of Alaska (FEMA-4893-DR), dated October 22, 2025.

Incident: Severe Storms, Flooding, and remnants of Typhoon Halong.

DATES: Issued on February 3, 2026.

Incident Period: October 8, 2025 through October 13, 2025.

Physical Loan Application Deadline Date: February 20, 2026.

Economic Injury (EIDL) Loan Application Deadline Date: July 22, 2026.

ADDRESSES: Visit the MySBA Loan Portal at https://lending.sba.gov to apply for a disaster assistance loan.

FOR FURTHER INFORMATION CONTACT: Jennifer Talarico, Office of Disaster Recovery and Resilience, U.S. Small Business Administration, 409 3rd Street SW, Suite 6050, Washington, DC 20416, (202) 205-6734.

SUPPLEMENTARY INFORMATION: The notice of the President's major disaster declaration for the State of ALASKA, dated October 22, 2025, is hereby amended to include the following areas as adversely affected by the disaster:

Primary Areas (Physical Damage and Economic Injury Loans): Kashunamiut Regional Educational Attendance Area, Yupiit Regional Educational Attendance Area, and the City of Saint Mary's.

All other information in the original declaration remains unchanged.

(Catalog of Federal Domestic Assistance Number 59008)

(Authority: 13 CFR 123.(b).)

James Stallings,
Associate Administrator, Office of Disaster Recovery & Resilience.

[FR Doc. 2026-02766 Filed 2-10-26; 8:45 am]

BILLING CODE 8026-09-P